DEPARTMENT OF TRANSPORTATION

Federal Aviation Administration

14 CFR Part 39

[Docket No. FAA-2006-23742; Directorate Identifier 2005-NE-53-AD; Amendment 39-15896; AD 2009-10-01]

RIN 2120-AA64

Airworthiness Directives; Pratt & Whitney (PW) JT9D-7R4 Series Turbofan Engines; Correction

AGENCY: Federal Aviation Administration (FAA), DOT.

ACTION: Final rule; correction.

SUMMARY: The FAA is correcting airworthiness directive (AD) 2009-10-01, which was previously published in the Federal Register. That AD applies to PW JT9D-7R4 series turbofan engines. In the Federal Register, the AD number in the CFR citation of the headings section is incorrect. This document corrects that AD number. In all other respects, the original document remains the same.

DATES: Effective May 18, 2009.

FOR FURTHER INFORMATION CONTACT: Mark Riley, Aerospace Engineer, Engine Certification Office, FAA, Engine and Propeller Directorate, 12 New England Executive Park, Burlington, MA 01803; e-mail: mark.riley@faa.gov; telephone (781) 238-7758; fax (781) 238-7199.

SUPPLEMENTARY INFORMATION: On May 5, 2009 (74 FR 20580), we published a final rule AD, FR Doc, E9-10145, in the Federal Register. That AD applies to PW JT9D-7R4 series turbofan engines. We need to make the following correction:

§ 39.13 [Corrected]

On page 20580, in the second column, in the Headings Section, in the CFR citation, in the third line, “AD 2009-10-06” is corrected to read “AD 2009-10-01”.

Issued in Burlington, Massachusetts, on May 7, 2009.
Peter A. White,
Assistant Manager, Engine and Propeller Directorate, Aircraft Certification Service.

[FR Doc. E9-11477 Filed 5-15-09; 8:45 am]

BILLING CODE 4910-13-P